DEPARTMENT OF COMMERCE

National Oceanic and Atmospheric Administration

RIN 0648-XB69

Fisheries of the Exclusive Economic Zone Off Alaska; Bering Sea and Aleutian Islands Crab Rationalization Cost Recovery Program

AGENCY: National Marine Fisheries Service (NMFS), National Oceanic and Atmospheric Administration (NOAA), Commerce.

ACTION: Notification of fee percentage.

SUMMARY: NMFS publishes a notification of fee percentages for cost recovery under the Bering Sea and Aleutian Islands Crab Rationalization Program (Program). This action is intended to provide holders of crab allocations with the fee percentage for the 2007-2008 crab fishing year to calculate the required payment for cost recovery fees due by July 31, 2008.

DATES: The Crab Rationalization Program Registered Crab Receiver permit holder is responsible for submitting the fee liability payment to NMFS on or before July 31, 2008.

FOR FURTHER INFORMATION CONTACT: Gretchen Harrington, 907-586-7228 or gretchen.harrington@noaa.gov.

SUPPLEMENTARY INFORMATION:

Background

NMFS Alaska Region administers the Crab Rationalization Program in the North Pacific. Fishing under the Program began in August 15, 2005. Regulations implementing the Program are set forth at 50 CFR part 680.

The Program is a limited access system authorized by section 313(j) of the Magnuson-Stevens Fishery Conservation and Management Act (Magnuson-Stevens Act). The Program contains a cost recovery provision to collect fees to recover the actual costs directly related to the management and enforcement of the Program. NMFS developed the cost recovery provision to conform with statutory requirements and to partially compensate the agency for the unique added costs of management and enforcement of the Program. Section 313(j) of the Magnuson-Stevens Act provided supplementary authority to section 304(d)(2)(A) and additional detail for cost recovery provisions specific to the Program. The cost recovery provision allows collection of 133 percent of the actual management, data collecting, and enforcement costs up to three percent of the ex-vessel value of crab harvested under the Program. Additionally, section 313(j) requires the harvesting and processing sectors to each pay half the cost recovery fees. Catcher/processor quota share holders are required to pay the full fee percentage.

A crab allocation holder generally incurs a cost recovery fee liability for every pound of crab landed. The crab allocations include Individual Fishing Quota (IFQ), Crew IFQ, Individual Processing Quota, Community Development Quota, and the Adak community allocation. The Registered Crab Receiver (RCR) permit holder must collect the fee liability from the crab allocation holder who is landing crab. Additionally, the RCR permit holder must collect his or her own fee liability for all crab delivered to the RCR. The RCR permit holder is responsible for submitting this payment to NMFS on or before the due date of July 31, following the crab fishing year in which payment for the crab is made.

The dollar amount of the fee due is determined by multiplying the fee percentage (not to exceed three percent) by the ex-vessel value of crab debited from the allocation. Specific details on the Program's cost recovery provision may be found in the implementing regulations set forth at 50 CFR 680.44.

Fee Percentage

Each year, NMFS calculates and publishes in the Federal Register the fee percentage according to the factors and methodology described in Federal regulations at § 680.44(c)(2). The formula for determining the fee percentage is the 'direct program costs' divided by 'value of the fishery', where 'direct program costs' are the direct program costs for the Crab Rationalization Program for the previous fiscal year, and 'value of the fishery' is the ex-vessel value of the catch subject to the crab cost recovery fee liability for the current year. Using this fee percentage formula, the estimated percentage of costs to value for the 2006/2007 fishery was 4.38 percent. However, the Magnuson-Stevens Act, at § 304(d)(2)(B), prohibits NMFS from collecting fees greater that three percent of the ex-vessel value of the crab harvests under the Program. Therefore, the fee percentage will remain three percent for the 2007-2008 crab fishing year.

Authority: 16 U.S.C. 1862 et seq.

James P. Burgess,
Acting Director, Office of Sustainable Fisheries, National Marine Fisheries Service.

[FR Doc. E7-14574 Filed 7-26-07; 8:45 am]

BILLING CODE 3510-22-S